DEPARTMENT OF TRANSPORTATION

Federal Aviation Administration

14 CFR Part 71

[Docket No. FAA-2006-24320; Airspace Docket No. 06-AEA-13]

Establishment of Class E Airspace; Forest Hill, MD

AGENCY: Federal Aviation Administration (FAA), DOT.

ACTION: Final rule; request for comments.

SUMMARY: This action establishes Class E airspace at Forest Hill, Maryland (MD) to accommodate a new Standard Instrument Approach Procedure (SIAP) that has been developed for Forest Hill Airport. Controlled airspace extending upward from 700 feet Above Ground Level (AGL) is needed to contain the SIAP and for Instrument Flight Rule (IFR) operations at the airport.

DATES: Effective Date: 0901 UTC, October 25, 2007. Comments for inclusion in the rules Docket must be received on or before September 24, 2007. The Director of the Federal Register approves this incorporation by reference action under title 1, Code of Federal Regulations, part 51, subject to the annual revision of FAA Order 7400.9 and publication of conforming amendments.

ADDRESSES: Send comments on this proposal to the Docket Management System, U.S. Department of Transportation, Docket Operations, M-30, 1200 New Jersey Avenue, SE., West Building, Ground Floor, Room W12-140, Washington, DC 20590; Telephone: 1-800-647-5527. You must identify the docket number FAA-2006-24320; Airspace Docket No. 06-AEA-13, at the beginning of your comments. You may also submit comments on the Internet at http://dms.dot.gov. You may review the public docket containing the proposal, any comments received, and any final disposition in person in the Dockets Office (see ADDRESSES section for address and phone number) between 9 a.m. and 5 p.m., Monday through Friday, except Federal holidays.

FOR FURTHER INFORMATION CONTACT: Mark D. Ward, Manager, System Support Group, Eastern Service Center, Federal Aviation Administration, P.O. Box 20636, Atlanta, Georgia 30320; telephone (404) 305-5581.

SUPPLEMENTARY INFORMATION:

History

On May 11, 2006 the FAA proposed to amend Title 14 Code of Federal Regulations (14 CFR) part 71 by establishing Class E airspace at Forest Hill, MD. (71 FR 27429). An original SIAP has been developed for this airport and this action provides adequate Class E airspace for IFR operations. Designations for Class E5 airspace areas extending upward from 700 fee or more above the surface of the earth are published in Paragraph 6005 of FAA Order 7400.9P, dated September 1, 2006, and effective September 15, 2006, which is incorporated by reference in 14 CFR part 71.1. The Class E designations listed in this document will be published subsequently in the Order.

Interested parties were invited to participate in this rulemaking proceeding by submitting written comments on the proposal to the FAA. No comments objecting to the proposal were received, however, in revalidating the proposed dimension of the airspace, it was found that the radius had been miscalculated and is actually 6.4 miles instead of 6.0 miles as proposed. Although it is believed that the corrected radius would not adversely affect airspace users, a 30-day comment period is being provided to give interested persons an opportunity to comment on the change.

The Rule

This amendment to Title 14, Code of Federal Regulations (14 CFR) part 71 establishes Class E5 airspace at Forest Hill, MD, to provide controlled airspace required to support the new Area Navigation (RNAV) Global Positioning System (GPS) Runway (RWY) 31 SIAP at Forest Hill Airport.

The FAA has determined that this proposed regulation only involves an established body of technical regulations for which frequent and routine amendments are necessary to keep them operationally current. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration proposes to amend 14 CFR part 71 as follows:

PART 71—[AMENDED]

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9P, Airspace Designations and Reporting Points, dated September 1, 2006, and effective September 15, 2006, is amended as follows:

Paragraph 6005 Class E Airspace Areas Extending Upward From 700 Feet or More Above the Surface of the Earth.

* * * * *

AEA MD E5 Forest Hill, MD [New]

Forest Hill Airport, MD

(Lat. 39°34′48″ N, long. 076°22′29″ W)

That airspace extending upward from 700 feet above the surface within a 6.4-mile radius of Forest Hill Airport, Forest Hill, MD.

* * * * *

Issued in College Park, Georgia, on August 8, 2007.
Kathy Kutch,
Acting Manager, System Support Group, Eastern Service Center.

[FR Doc. 07-4331 Filed 9-6-07; 8:45 am]

BILLING CODE 4910-13-M